NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 19, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Acting Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the New Address for Requesting Schedules Using E-Mail)

1. Department of Defense, Office of the Inspector General (N1-509-05-1, 7 items, 5 temporary items). Records of the Defense Criminal Investigative Service relating to sources of information for criminal investigations. Included are agreements, fingerprints, polygraphs, status reports, payment information, and general correspondence. Also included are electronic copies of records created using electronic mail and word processing. Proposed for permanent retention are recordkeeping copies of policy files and source files established in conjunction with investigative case files approved for permanent retention.

2. Department of Defense, Defense Threat Reduction Agency (N1-374-03-1, 15 items, 9 temporary items). Audiovisual work orders, unedited silent explosion phenomenology and effects, routine and non-mission related photographic material, duplicate training materials, routine briefings and presentations, and indexes to records proposed for disposal. Also included are electronic copies of records created using electronic mail and word processing. Proposed for permanent retention are recordkeeping copies of technical films of U.S. and foreign nuclear test events, master copies of agency training materials, important briefings and presentations, audiovisual news releases and indexes to historic audiovisual materials.

3. Department of Defense, Defense Threat Reduction Agency (N1-374-05-3, 2 items, 1 temporary item). Electronic copies of records created using electronic mail and word processing that pertain to an electronic catalog of scientific and technical information. The recordkeeping copy of the catalog is proposed for permanent retention.

4. Department of Defense, Defense Threat Reduction Agency (N1-374-05-4, 2 items, 1 temporary item). Electronic copies of records created using electronic mail and word processing that pertain to an electronic imaging system of scientific and technical information. Proposed for permanent retention are the recordkeeping copies of the electronic images and technical documentation of nuclear weapons effects testing and weapons testing.

5. Department of Defense, Defense Threat Reduction Agency (N1-374-05-5, 2 items, 2 temporary items). Records relating to testing the effects of radiation on parts manufactured for spacecraft and satellites. Also included are electronic copies of records created using electronic mail and word processing.

6. Department of Defense, National Security Agency/Central Security Service (N1-457-05-3, 5 items, 5 temporary items). Case files relating to psychological evaluations. This schedule authorizes the agency to apply the proposed disposition instruction to any recordkeeping medium.

7. Department of Defense, National Security Agency/Central Security Service (N1-457-05-4, 1 item, 1 temporary item). Public key infrastructure certificates of acceptance and acknowledgement of responsibilities.

8. Department of Homeland Security, U.S. Coast Guard (N1-26-05-2, 3 items, 3 temporary items). Records of the Great Lakes Pilotage Program relating to pilot personnel files. Included are such records as application forms, fingerprinting and background documentation, photographs, reports of medical examination, violations and incident reports, correspondence, and certificates of registration. Also included are electronic copies of records created using electronic mail and word processing.

9. Department of Homeland Security, U.S. Coast Guard (N1-26-05-5, 3 items, 2 temporary items). Electronic copies of records created using electronic mail and word processing that pertain to high level correspondence. Proposed for permanent retention are recordkeeping copies of this correspondence involving commanding officers and high level or high profile events.

10. Department of Homeland Security, U.S. Coast Guard (N1-26-05-19, 4 items, 3 temporary items). Case files pertaining to the development, operation, and repair of aids to navigation classified as minor aids, such as buoys. Included are such records as establishment files and authorizations, damage and repair reports, location charts, photographs, structural drawings, and correspondence. Also included are electronic copies of records created using electronic mail and word processing. Proposed for permanent retention are recordkeeping copies of case files for major aids to navigation, such as lighthouses.

11. Department of the Interior, U.S. Fish and Wildlife Service, (N1-22-05-1, 262 items, 212 temporary items). A comprehensive schedule covering 21 agency functions, including administration, Alaska, archaeology, audits, conservation, technical assistance, endangered species, enforcement, environmental contaminants, facilities, fiscal matters, grants, litigation, permits, personnel, policy and legislation, program management, publications and public relations, realty, research, and safety. Included are such records as routine policy and procedures files, working papers, background and reference materials, archaeological permit files, audit case files, complaint files and violation logs, conservation agreements and easements, endangered species consultation files, critical habitat case files, biological and habitat assessments, technical assistance files, special operations case files, engineering drawings and specifications, work orders, administrative records, permit files, duck stamp contest agreements, public relations project files, escrow files, acquisition and disposal files, land status determinations, land and mineral case files, fish and wildlife surveys, and electronic tracking systems. Also included are records created using electronic mail and word processing applications. Proposed for permanent retention are recordkeeping copies of briefing statements, substantive policy documents, Alaska subsistence fisheries and hunting case files, Federal regional advisory council records, archaeological resource inventory and information files, conservation and restoration plans, endangered and threatened species files, historical project and grant product files, tagging certificates, historical project and property maps, mission-related motion pictures and recordings, photographs, news releases, publications, high-level speeches, and wilderness studies.

12. Department of Transportation, Federal Aviation Administration (N1-237-02-3, 3 items, 2 temporary items). Aeronautical charting products and the records used to compile them. Proposed for permanent retention are recordkeeping copies of unique aeronautical charts, including visual navigation charts, instrument navigation charts, and supplementary publications. This schedule authorizes the agency to apply the proposed disposition instructions to any recordkeeping medium.

13. Department of the Treasury, Internal Revenue Service (N1-58-05-9, 2 items, 2 temporary items). Completed and incomplete applications for enrollment in the Health Coverage Tax Credit Program.

14. Department of the Treasury, Internal Revenue Service (N1-58-05-10, 8 items, 8 temporary items). Records relating to the granting and administration of personnel security clearances. Also included are electronic copies of records created using electronic mail and word processing.

15. Department of the Treasury, Office of the Comptroller of the Currency (N1-101-05-1, 66 items, 47 temporary items). A comprehensive schedule that includes official files of a routine or administrative nature, working files, transitory files, schedules of daily activities of senior staff and other employees, corporate licensing files and records of supervisory activities associated with active banks, litigation and enforcement case files, annual oaths of national bank directors, consumer files, criminal referral forms, collective investment fund files, country exposure reports, municipal securities dealer applications, delegation of authority files, agency office lease files, routine training materials, and general files relating to the Uniform Commission Examination. Also included are electronic copies of documents created using electronic mail and word processing. Proposed for permanent retention are recordkeeping copies of official agency policy and program files, precedential opinion files, the Comptroller of the Currency's schedule of daily activities, corporate history files, special case files, inactive bank case files, administrative hearing files, securities disclosure filings made under 12 CFR Part 11, closing banks, publications, agency-developed training materials for bank examiners, and Uniform Commission Examinations. This schedule authorizes the agency to apply the proposed disposition instructions to any recordkeeping medium.

16. Armed Forces Retirement Home, Agency-wide (N1-231-05-1, 121 items, 116 temporary items). Records relating to mission and organization, program and services, and administration and management. Also included are electronic copies of records created using electronic mail and word processing. Proposed for permanent retention are recordkeeping copies of legislation case files, Congressional testimonies, and museum exhibit planning, lending, and educational materials files. This schedule authorizes the agency to apply the proposed disposition instructions to any recordkeeping medium.

17. Morris K. Udall Scholarship and Excellence in National Environmental Policy Foundation, Agency-wide (N1-508-05-1, 39 items, 20 temporary items). Records include administrative and reference files of advisory committees, compliance reports, routine correspondence and subject files, recipient files and non-winner applications for education awards, routine photographs, project contract files, member and non-member applications, referral case files, project evaluation development records and tracking databases. Also included are electronic copies of records created using electronic mail and word processing. Proposed for permanent retention are recordkeeping copies of executive leadership files, including board of trustees meeting minutes, program and policy reports, high level correspondence, subject files, organizational records of advisory committees, executive management team files, records of the legal counsel, publications, speeches, news releases, and video recordings. Also proposed for permanent retention are recordkeeping copies of photographs at official events, subject files of the education program, correspondence and subject files of the director of the United States Institute for Environmental Conflict Resolution, project case files, records relating to roster development for the National Roster of the Environmental Dispute Resolution and Consensus Building Professionals, and evaluation reports.

18. National Archives and Records Administration, Office of Regional Records Services (N1-64-05-9, 6 items, 6 temporary items). Inputs, master files, documentation, and electronic mail and word processing copies associated with an electronic information system used to collect data and bill agencies for the storage and servicing of records at federal records centers.

19. Small Business Administration (N1-309-05-16, 8 items, 8 temporary items). Inputs, outputs, master files, backups, documentation, and electronic mail and word processing copies associated with an electronic system used by the Office of Capital Access to capture and track information on small business investment companies.

20. Tennessee Valley Authority, Fossil Power Group (N1-142-04-9, 4 items, 4 temporary items). Forms used to set relays and other protective devices at fossil power plants. Also included are electronic copies of records created using electronic mail and word processing.

21. Tennessee Valley Authority, TVA Nuclear (N1-142-05-3, 3 items, 3 temporary items). Electronic copies of records created using electronic mail and word processing that are associated with nuclear power recorder charts. This schedule reduces the retention period for recordkeeping copies of these files, which were previously approved for disposal, as the same information is retained in quality assurance records for 75 years. This schedule also extends the retention period for recordkeeping copies of nuclear power plant work orders, which were previously approved for disposal.

Dated: October 18, 2005.
Michael J. Kurtz,
Assistant Archivist for Records Services—Washington, DC.

[FR Doc. 05-21810 Filed 11-1-05; 8:45 am]

BILLING CODE 7515-01-P